DEPARTMENT OF TRANSPORTATION

Office of the Secretary

Notice of Applications for Certificates of Public Convenience and Necessity and Foreign Air Carrier Permits Filed Under Subpart B (Formerly Subpart Q) During the Week Ending December 21, 2007

The following Applications for Certificates of Public Convenience and Necessity and Foreign AirCarrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0084.

Date Filed: December 18, 2007 .

Due Date for Answers, Conforming Applications, or Motion to Modify Scope: January 2, 2008.

Description: Application of SkyWest Airlines, Inc. requesting a certificate of public convenience and necessity authorizing SkyWest to engage in scheduled foreign air transportation of persons, property and mail, including authority to operate via the U.S. and intermediate points to a point or points within countries with which the U.S. has a bilateral or multilateral open skies agreement.

Docket Number: DOT-OST-2006-0123.

Date Filed: December 21, 2007.

Due Date for Answers, Conforming Applications, or Motion to Modify Scope:January 11, 2008.

Description: Application of TAG Aviation Espana S.L. (“TAG Espana”) requesting a foreign air carrier permit to enable it to engage in: (i) Foreign charter air transportation of persons and property from any point or points behind any Member State of the European Union via any point or points in any Member State and via intermediate points to any point or points in the United States and beyond; (ii) foreign charter air transportation of persons and property between any point or points in the United States and any point or points in any member of the European Common Aviation Area; (iii) other charters pursuant to the prior approval requirements set forth in Part 212 of the Department's Economic Regulations; and (iv) transportation authorized by any additional route rights made available to the European Community carriers in the future. TAG Espana further requests an amendment to its existing exemption to enable it to provide the service described above pending issuance of a foreign air carrier permit and such additional or other relief as the Department may deem necessary or appropriate.

Docket Number: DOT-OST-2007-0124.

Date Filed: December 21, 2007.

Due Date for Answers, Conforming Applications, or Motion to Modify Scope: January 11, 2008.

Description: Application of Aerolineas Mesoamericanas, S.A. de C.V., (“ALMA”) requesting a foreign air carrier permit to provide scheduled foreign air transportation of persons, property, and mail as provided for in the Air Transport Services Agreement between the U.S. and Mexico. ALMA also requests authority to engage in charter trips in foreign air transportation, as permitted by Annex II of the 2005 U.S.-Mexico Agreement, and other charters in accordance with Part 212.

Docket Number: DOT-OST-2007-0125.

Date Filed: December 21, 2007.

Due Date for Answers, Conforming Applications, or Motion to Modify Scope: January 11, 2008.

Description: Application of National Aviation Company of India Limited, d/b/a Air India requesting an amended foreign air carrier permit and exemption authority to engage in scheduled foreign air transportation of persons, property, and mail from points behind India via India and intermediate points to a point or points in the United States and beyond.

Docket Number: DOT-OST-2007-0126.

Date Filed: December 19, 2007.

Due Date for Answers, Conforming Applications, or Motion to Modify Scope: January 9, 2008.

Description: Application of Eos Airlines, Inc. requesting a certificate of public convenience and necessity to engage in interstate scheduled air transportation of persons, property, and mail.

Renee V. Wright,
Program Manager, Docket Operations, Federal Register Liaison.

[FR Doc. E8-9319 Filed 4-28-08; 8:45 am]

BILLING CODE 4910-9X-P